DEPARTMENT OF EDUCATION

Privacy Act of 1974; Computer Matching Program Between the U.S. Department of Education and the Department of Homeland Security, U.S. Citizenship and Immigration Services

AGENCY: Department of Education.

ACTION: Notice.

SUMMARY: This document provides notice of the continuation of a computer matching program between the Department of Education and the Department of Homeland Security, U.S. Citizenship and Immigration Services. The continuation is effective on the date described in paragraph 5 of this notice.

SUPPLEMENTARY INFORMATION: We provide this notice in accordance with 5 U.S.C. 552a (commonly known as the Privacy Act of 1974); Office of Management and Budget (OMB) Final Guidance Interpreting the Provisions of Public Law 100-503; the Computer Matching and Privacy Protection Act of 1988, 54 FR 25818 (June 19, 1989); and OMB Circular A-130, Appendix I, http://www.whitehouse.gov/omb/circulars_a130.

1. Names of Participating Agencies

The U.S. Department of Education (ED) and the U.S. Department of Homeland Security, U.S. Citizenship and Immigration Services (USCIS).

2. Purpose of the Match

The matching program entitled “Verification Division USCIS/ED” will permit ED to confirm the immigration status of alien applicants for, or recipients of, financial assistance under title IV of the Higher Education Act of 1965, as amended (HEA), as authorized by section 484(g) of the HEA (20 U.S.C. 1091(g)). The title IV, HEA programs that are covered by the agreement include: The Federal Pell Grant Program, the Teacher Education Assistance for College and Higher Education (TEACH) Grant Program, the Iraq and Afghanistan Service Grant Program, the Federal Perkins Loan Program, the Federal Work-Study Program, the Federal Supplemental Educational Opportunity Grant Program, and the William D. Ford Federal Direct Loan Program.

3. Authority for Conducting the Matching Program

The information contained in the USCIS database is referred to as the Verification Information System (VIS), which is authorized by section 274A(b) of the Immigration and Nationality Act, 8 U.S.C. 1324a(b). ED seeks access to the VIS for the purpose of confirming the immigration status of applicants for assistance, as authorized by section 484(g) of the HEA, 20 U.S.C. 1091(g), and consistent with the title IV student eligibility requirements of section 484(a)(5) of the HEA, 20 U.S.C. 1091(a)(5). USCIS is authorized to participate in this immigration status verification by section 103 of the Immigration and Nationality Act, 8 U.S.C. 1103.

4. Categories of Records and Individuals Covered by the Match

The records to be used in the match and the roles of the matching participants are: Through the use of user identification codes and passwords, authorized persons from ED will electronically transmit to USCIS data from ED's Privacy Act system of records entitled “Federal Student Aid Application File (18-11-01).” The data will include the alien registration number, the first and last name, date of birth, current Social Security number, and gender of the alien applicant for, or recipient of, title IV, HEA program assistance. This action will initiate a search for corresponding data elements in a USCIS Privacy Act system of records entitled “Verification Information System Records Notice (DHS-2007-0010).” Where there is a match of records, the USCIS system will add the following data to the record and return the file to ED: the primary or secondary verification number, the date of entry into the U.S., the country of birth, the USCIS status code of the alien applicant or recipient, and a code indicating that the alien applicant or recipient was confirmed to be an eligible non-citizen or that this determination could not be made.

In accordance with 5 U.S.C. 552a(p), ED will not suspend, terminate, reduce, or make a final denial of any title IV, HEA program assistance to the individual, or take other adverse action against the individual, as a result of information produced by the match, until ED has independently verified the information, or ED's Data Integrity Board determines, in accordance with guidance issued by the Director of the OMB, that: (1) The information is limited to identification and amount of benefits paid by ED under a Federal benefit program; and (2) there is a high degree of confidence that the information provided to ED is accurate. In addition, the individual must first receive a notice from ED containing a statement of its findings and informing the individual of the opportunity to contest those findings by submitting documentation demonstrating a satisfactory immigration status within 30 days of receipt of the notice. After 30 days from the date of the individual's receipt of such notice, ED may take adverse action against an individual as a result of information produced by the match.

5. Effective Dates of the Matching Program

The matching program will be effective on the latest of the following three dates: (A) October 17, 2014; (B) 30 days from the date on which ED publishes a Computer Matching Notice in the Federal Register, as required by 5 U.S.C. 552a(e)(12); or (C) 40 days from the date on which ED transmits the report of the matching program, as required by 5 U.S.C. 552a(r), to OMB, the U.S. House Committee on Oversight and Government Reform, and the U.S. Senate Committee on Homeland Security and Governmental Affairs, unless OMB waives 10 days of the 40-day review period for compelling reasons, in which case 30 days from the date of ED's transmittal of the matching program report.

The matching program will continue for 18 months after the effective date and may be extended for an additional 12 months thereafter, if the conditions specified in 5 U.S.C. 552a(o)(2)(D) have been met.

This agreement terminates and replaces the current 12-month Computer Matching Program extension because the following substantive change has occurred since the last 18-month computer matching agreement: ED and DHS will have moved the mainframe-to-mainframe batch file exchange process to a Web-oriented data-exchange process as of the effective date of this agreement.

6. Address for Receipt of Public Comments or Inquiries

Individuals who wish to comment on this matching program or obtain additional information about the program, including a copy of the computer matching agreement between ED and DHS, may contact Ms. Marya Dennis, Management and Program Analyst, U.S. Department of Education, Federal Student Aid, Union Center Plaza, 830 First Street NE., Washington, DC 20002-5345. Telephone: (202) 377-3385. If you use a telecommunications device for the deaf (TDD) or a text telephone (TTY), call the Federal Relay Service (FRS), toll free, at 1-800-877-8339.

Accessible Format: Individuals with disabilities can obtain this document in an accessible format (such as, braille, large print, audiotape, or compact disc) on request to the contact person listed in the preceding paragraph.

Electronic Access to This Document: The official version of this document is the document published in the Federal Register. Free Internet access to the official edition of the Federal Register and the Code of Federal Regulations is available through the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 5 U.S.C. 552a.

Dated: September 5, 2014.
Matthew D. Sessa,
Deputy Chief Operating Officer Federal Student Aid.

[FR Doc. 2014-22073 Filed 9-15-14; 8:45 am]

BILLING CODE 4000-01-P